DEPARTMENT OF TRANSPORTATION

Federal Aviation Administration

14 CFR Part 39

[Docket No. FAA-2012-0448; Directorate Identifier 2010-SW-016-AD]

RIN 2120-AA64

Airworthiness Directives; Agusta S.p.A. Helicopters

AGENCY: Federal Aviation Administration (FAA), DOT.

ACTION: Notice of proposed rulemaking (NPRM).

SUMMARY: We propose to adopt a new airworthiness directive (AD) for Agusta S.p.A. (Agusta) Model A109S helicopters, which would require modifying the electrical power distribution system to carry a higher electrical load. This proposed AD is prompted by an electrical failure on an Agusta Model A109E helicopter that resulted from “inadequate functioning of the 35 amperes (amps) BATT BUS circuit breaker.” The proposed actions are intended to require modifying the electrical power distribution system to prevent failure of the circuit breaker, loss of electrical power to instruments powered by the “BATT BUS” system, and subsequent loss of control of the helicopter.

DATES: We must receive comments on this proposed AD by July 9, 2012.

ADDRESSES: You may send comments by any of the following methods:

• Federal eRulemaking Docket: Go to http://www.regulations.gov. Follow the online instructions for sending your comments electronically.

• Fax: (202) 493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the economic evaluation, any comments received, and other information. The street address for the Docket Operations Office (telephone (800) 647-5527) is in the ADDRESSES section. Comments will be available in the AD docket shortly after receipt.

For service information identified in this proposed AD, contact Agusta, S.p.A., Via Giovanni Agusta 520, 21017 Cascina Costa di Samarate (VA), Italy, ATTN: Giovanni Cecchelli; telephone 39-0331-711133; fax 39-0331-711180; or at http://www.agustawestland.com/technical-bullettins. You may review a copy of the referenced service information at the FAA, Office of the Regional Counsel, Southwest Region, 2601 Meacham Blvd., Room 663, Fort Worth, Texas 76137.

FOR FURTHER INFORMATION CONTACT: Mark F. Wiley, Aviation Safety Engineer, Regulations and Policy Group, Rotorcraft Directorate, FAA, 2601 Meacham Blvd., Fort Worth, Texas 76137; telephone (817) 222-5110; email mark.wiley@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

The European Aviation Safety Agency (EASA), which is the Technical Agent for Italy, a Member State of the European Union, issued EASA AD No. 2009-0137, dated June 23, 2009, for the Agusta Model A109E helicopter to correct an unsafe electrical condition caused by an inadequately functioning circuit breaker that was not within design requirements. That EASA AD required installing a “BATT BUS” circuit breaker modification kit on the Model A109E helicopters. Based on the unsafe condition created by this circuit breaker as described in EASA AD No. 2009-0137, the FAA issued AD 2010-20-21 (75 FR 61341, October 5, 2010; Correction published at 75 FR 65224, October 22, 2010) to require installing a “BATT BUS” circuit breaker modification kit on Model A109E helicopters in the United States. Subsequently, EASA issued AD No. 2009-0264, dated December 15, 2009, to correct the same unsafe condition on the Agusta Model A109S helicopters due to the design commonality between the electrical power distribution system of the Model A109E and A109S helicopters. The FAA is now proposing to issue this AD for the Model A109S helicopters to correct this same unsafe condition.

FAA's Determination

These helicopters have been approved by the aviation authority of Italy and are approved for operation in the United States. Pursuant to our bilateral agreement with Italy, EASA, its technical representative, has notified us of the unsafe condition described in the EASA AD.

We are proposing this AD because we evaluated all information provided by EASA and determined that an unsafe condition exists and is likely to exist or develop on other products of the same type design.

Related Service Information

Agusta has issued Bollettino Tecnico No. 109S-35, dated December 11, 2009 (BT), which specifies modifying and testing the “BATT BUS” circuit breaker installation. The EASA classified this BT as mandatory and issued AD No. 2009-0264, dated December 15, 2009, to ensure the continued airworthiness of these helicopters.

Proposed AD Requirements

This proposed AD would require compliance with specified portions of the manufacturer's service bulletin including modifying the electrical power distribution system by installing a “BATT BUS” Circuit Breaker Modification Kit, part number 109-0824-73-107, and thereafter, testing for proper functioning of the electrical system.

Differences Between This Proposed AD and the EASA AD

This proposed AD does not reference the calendar date of June 30, 2010, which has already passed.

Costs of Compliance

We estimate that this proposed AD would affect 15 helicopters of U.S. Registry. We estimate that operators may incur the following costs in order to comply with this AD. It would take about 8 work-hours per helicopter to install the `BATT BUS' circuit breaker modification kit at an average labor rate of $85 per work-hour and required parts would cost about $471 per helicopter. Based on these figures, we estimate the total cost impact of the proposed AD on U.S. operators to be $17,265.

According to the service information of the production approval holder (PAH), some of the costs of this proposed AD may be covered under warranty, thereby reducing the cost impact on affected individuals. We do not control warranty coverage by the PAH. Accordingly, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by Reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

AGUSTA S.p.A.: Docket No. FAA-2012-0448; 2010-SW-016-AD.

(a) Applicability

This AD applies to Agusta S.p.A. (Agusta) Model A109S helicopters, serial numbers up to and including 22151, certificated in any category.

(b) Unsafe Condition

This AD defines the unsafe condition as failure of the 35 ampere (amp) “BATT BUS,” which could result in an electrical failure and fire, loss of electrical power to instruments powered by the “BATT BUS” system, and subsequent loss of control of the helicopter.

(c) Compliance

You are responsible for performing each action required by this AD within the specified compliance time unless it has already been accomplished prior to that time.

(d) Required Actions

Within 50 hours time-in-service, modify the electrical power distribution system by installing the “BATT BUS” Circuit Breaker Modification Kit, part number 109-0824-73-107, as depicted in Figures 1 through 3 and by following the Compliance Instructions, paragraphs 4. through 7., of Agusta Bollettino Tecnico No. 109S-35, dated December 11, 2009 (ASB). Thereafter, operationally test the electrical system by following paragraphs 19.1 through 19.7 of the ASB.

(e) Special Flight Permit

Special flight permits may be issued in accordance with 14 CFR 21.197 and 21.199 to operate the helicopter to a location where the requirements of this AD can be accomplished provided that you do not simultaneously operate the landing light and the search light.

(f) Alternative Methods of Compliance (AMOC)

(1) The Manager, Safety Management Group, FAA, may approve AMOCs for this AD. Send your proposal to: Mark F. Wiley, Aviation Safety Engineer, Regulations and Policy Group, Rotorcraft Directorate, FAA, 2601 Meacham Blvd., Fort Worth, Texas 76137; telephone (817) 222-5110; email mark.wiley@faa.gov.

(2) For operations conducted under a Part 119 operating certificate or under Part 91, Subpart K, we suggest that you notify your principal inspector, or lacking a principal inspector, the manager of the local flight standards district office or certificate holding district office before operating any aircraft complying with this AD through an AMOC.

(g) Additional Information

The subject of this AD is addressed in European Aviation Safety Agency (Italy) AD No. 2009-0264, dated December 15, 2009.

(h) Subject

Joint Aircraft Service Component (JASC) Code: 2460, DC Power/Distribution System.

Issued in Fort Worth, Texas, on April 17, 2012.
Kim Smith,
Manager, Rotorcraft Directorate, Aircraft Certification Service.

[FR Doc. 2012-11197 Filed 5-8-12; 8:45 am]

BILLING CODE 4910-13-P